DEPARTMENT OF HOUSING AND URBAN DEVELOPMENT

[Docket No. FR-7012-N-03]

60-Day Notice of Proposed Information Collection: Application for Community Compass TA and Capacity Building Program NOFA and Awardee Reporting

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 23, 2019.

ADDRESSES: Interested persons are invited to submit comments regarding this proposal. Comments should refer to the proposal by name and/or OMB Control Number and should be sent to: Colette Pollard, Reports Management Officer, QDAM, Department of Housing and Urban Development, 451 7th Street SW, Room 4186, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Kenneth Rogers, Senior CPD Specialist, Kenneth Rogers at Kenneth.W.Rogers@hud.gov or telephone 202-402-4396. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Application for Community Compass Technical Assistance and Capacity Building Program Notice of Funding Availability (NOFA).

OMB Approval Number: 2506-0197.

Type of Request: Extension.

Form Number: SF-424, SF424CB, SF-424CBW, SF-425, SF-LLL, HUD-2880, HUD-50070, HUD-XXX, HUD-XXX, HUD-XXX, HUD-XXX, HUD-XXX, HUD-XXX, and Grants.gov Lobbying Form Certification.

Description of the need for the information and proposed use: Application information is needed to determine competition winners, i.e., the technical assistance providers best able to develop efficient and effective programs and projects that increase the supply of affordable housing units, prevent and reduce homelessness, improve data collection and reporting, and use coordinated neighborhood and community development strategies to revitalize and strengthen their communities. Additional information is needed during the life of the award from the competition winner, i.e., the technical assistance providers to fulfill the administrative requirements of the award.

Application/Pre-Award

Respondents (i.e., affected public): For profit and non-profit organizations.

Estimated Number of Respondents: 60.

Estimated Number of Responses: 60.

Frequency of Response: 1.

Average Hours per Response: 118.14.

Application/Pre-Award Total Estimated Burden: 7,088.40.

Post-Award

Estimated Number of Respondents/Awardees: 30.

Work Plans: 10 per year/awardee.

Average Hours per Response: 18.

Reports: 4 per year/awardee.

Average Hours per Response: 6.

Recordkeeping: 12 per year/awardee.

Average Hours per Response: 16.

Post-Award Total Estimated Burden: 11,070.

Total Estimated Burdens: 18,158.40.

Information collection | Number of respondents | Frequency of response | Responses per annum | Burden hour per response | Annual burden hours | Hourly cost per response * | Annual cost
Application/Pre-Award | 60 | 1 | 60 | 118.14 | 7,088.40 | $60.74 | $430,549.42
Post-Award |  |  |  |  |  |  |
Work Plans | 30 | 10 | 300 | 18 | 5,400 | 60.74 | 327,996.00
Reports | 30 | 4 | 120 | 5.85 | 702 | 60.74 | 42,639.48
Recordkeeping | 30 | 12 | 360 | 13.8 | 4,968 | 60.74 | 301,756.32
Total |  |  |  |  | 18,158.40 |  | 1,102,941.22
* Estimated cost for respondents is calculated from the June 2018 Department of Labor Bureau of Labor Statistics report on Employer Costs for Employee Compensation determined that the hourly rate of management, professional and related wages and salaries averaged $41.71 per hour plus $19.03 per hour for fringe benefits for a total $60.74 per hour.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including using appropriate automated collection techniques or other forms of information technology, e.g., permitting electronic submission of responses.

HUD encourages interested parties to submit comment in response to these questions.

C. Authority

Section 3507 of the Paperwork Reduction Act of 1995, 44 U.S.C. Chapter 35.

Dated: July 11, 2019.
David C. Woll Jr.,
Principal Deputy Assistant Secretary for Community Planning and Development.

[FR Doc. 2019-15628 Filed 7-22-19; 8:45 am]

BILLING CODE 4210-67-P